DEPARTMENT OF AGRICULTURE

U.S. Forest Service

San Juan National Forest; Columbine Ranger District; Colorado; Hermosa/Mitchell Lakes Land Exchange; Comment Period Extension

AGENCY: U.S. Forest Service, Agriculture.

ACTION: Notice of public comment deadline extension.

SUMMARY: Pursuant to the National Environmental Policy Act of 1969, as amended, and regulatory requirements, the San Juan National Forest, Columbine Ranger District will extend the public comment period on the Hermosa/Mitchell Lakes Land Exchange Draft Environmental Impact Statement for an additional 30 days beyond the original comment 45 day comment period.

DATES: The deadline for public comment was originally published as September 28, 2009, and then extended to October 1, 2009 due to a Federal Register publishing delay. The new deadline for public comments will be October 30, 2009.

ADDRESSES: Send written comments to Columbine Ranger District, Hermosa Land Exchange Comments, P.O. Box 439, 367 Pearl Street, Bayfield, CO 81122; or electronically to: comments-rocky-mountain-san-juan-columbine@fs.fed.us.

FOR FURTHER INFORMATION CONTACT: Cindy Hockelberg, Lands Forester, Columbine Ranger District, 970-884-1418.

SUPPLEMENTARY INFORMATION: A Draft Environmental Impact Statement has been prepared to assess a proposal to exchange 265 acres of federal land for 330 acres of three private inholdings. Copies of the document are available for review and download on the Internet at: http://www.fs.fed.us/r2/sanjuan/projects/projects.shtml.

Hard copies can also be viewed at the Durango and Bayfield public libraries, and at the Columbine Ranger District Office, 267 Pearl Street, Bayfield CO, and at the San Juan Public Lands Office, 15 Burnett Court, Durango CO.

Comments that provide information and reasoning, as opposed to statements of opinion or preference, are most likely to be helpful in determining the decision. Reviewers should provide comments on factual errors, missing information, issues that were not brought to our attention during scoping, or other items affecting accuracy of the analysis. To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement.

Comments received, including the names and addresses of those who comment, will be considered part of the public record on this proposal and will be available for public inspection.

(Authority: 40 CFR 1501.7 and 1508.22; Forest Service Handbook 1909.15, Section 21)

Dated: September 16, 2009.
Bill Dunkelberger,
Deputy Forest Supervisor/Associate Center Manager.

[FR Doc. E9-22827 Filed 9-21-09; 8:45 am]

BILLING CODE 3410-11-P